DEPARTMENT OF COMMERCE

National Oceanic and Atmospheric Administration

Membership of the National Oceanic and Atmospheric Administration Performance Review Board

AGENCY: National Oceanic and Atmospheric Administration (NOAA), Department of Commerce.

ACTION: Notice of membership of NOAA Performance Review Board

SUMMARY: In accordance with 5 U.S.C. 4314(c)(4), NOAA announces the appointment of four additional members to serve on the NOAA Performance Review Board (PRB). The NOAA PRB is responsible for reviewing performance appraisals and ratings of Senior Executive Service (SES) members and making written recommendations to the appointing authority on SES retention and compensation matters, including performance-based pay adjustments, awarding of bonuses and reviewing recommendations for potential Presidential Rank Award nominees, and SES recertification. The appoint of members to the NOAA PRB will be for a period of 24 months.

DATES: The effective date of service of the four additional appointees to the NOAA Performance Review Board is September 14, 2001.

FOR FURTHER INFORMATION CONTACT: David M. Belt, Executive Resources Program Manager, Human Resources Management Office, Office of Finance and Administration, NOAA, 1305 East-West Highway, Silver Spring, Maryland 20910, (301) 713-05320 (ext. 204).

SUPPLEMENTARY INFORMATION: The names and position titles of the additional members of the NOAA PRB is set forth below:

Jordan P. St. John, Director, Office of Public and Constituent Affairs, office of Public and Constituent Affairs, NOAA

Mary Beth S. Nethercutt, Director, Office of legislative Affairs, Office of legislative Affairs, NOAA

K. David Holmes, Jr., Deputy Assistant Secretary and Director for Security, Office of the Secretary, Department of Commerce

Anthony A. Fleming, Director for Administrative Services, Office of the Secretary, Department of Commerce

Dated: September 17, 2001.
Scott B. Gudes,
Acting Under Secretary/Administrator and Deputy Under Secretary.

[FR Doc. 01-24155 Filed 9-26-01; 8:45 am]

BILLING CODE 3510-12-M